FEDERAL HOUSING FINANCE AGENCY

[No. 2016-N-04]

Privacy Act of 1974; Systems of Records

AGENCY: Federal Housing Finance Agency.

ACTION: Notice of revision to an existing Privacy Act system of records.

SUMMARY: In accordance with the requirements of the Privacy Act of 1974, as amended, 5 U.S.C. 552a (Privacy Act), the Federal Housing Finance Agency (FHFA) gives notice of a revision to an existing Privacy Act system of records.

The existing system is Emergency Notification System (FHFA-14) and is being revised in its entirety. The system is being revised to add additional information that is being collected; to change the location of the system; and to update the routine uses of the system. The revised system will contain information that FHFA will use to maintain emergency contact information for current FHFA employees and contractor personnel. The system will provide for high-speed message delivery that reaches agency and contractor personnel in response to threat alerts issued by the Department of Homeland Security, weather related emergencies, or other critical situations that disrupt the operations of and accessibility to an FHFA worksite. The system also provides for personnel accountability during an emergency through personnel sign-in and rapid alert and notification.

DATES: To be assured of consideration, comments should be received on or before May 16, 2016. This revised system of records will become effective on May 25, 2016 without further notice unless comments necessitate otherwise. FHFA will publish a new notice if the effective date is delayed to review comments or if changes are made based on comments received.

ADDRESSES: Submit comments to FHFA only once, identified by “2016-N-04,” using any one of the following methods:

• Agency Web site: www.fhfa.gov/open-for-comment-or-input.

• Federal eRulemaking Portal: http://www.regulations.gov. Follow the instructions for submitting comments. If you submit your comment to the Federal eRulemaking Portal, you may also send it by email to FHFA at RegComments@fhfa.gov to ensure timely receipt by the agency. Please include “Comments/No. 2016-N-04” in the subject line of the message.

• Hand Delivered/Courier: The hand delivery address is: Alfred M. Pollard, General Counsel, Attention: Comments/No. 2016-N-04, Federal Housing Finance Agency, Eight Floor, 400 7th Street SW., Washington, DC 20219. The package should be delivered to the Seventh Street entrance Guard Desk, First Floor, on business days between 9 a.m. and 5 p.m.

• U.S. Mail, United Parcel Service, Federal Express, or Other Mail Service: The mailing address for comments is: Alfred M. Pollard, General Counsel, Attention: Comments/No. 2016-N-04, Federal Housing Finance Agency, Eighth Floor, 400 7th Street SW., Washington, DC 20219. Please note that all mail sent to FHFA via the U.S. Postal Service is routed through a national irradiation facility, a process that may delay delivery by approximate two weeks.

See SUPPLEMENTARY INFORMATION for additional information on submission and posting of comments.

FOR FURTHER INFORMATION CONTACT: Andrew Wheeler, Supervisory Security Specialist, Office of the Chief Operating Officer at (202) 649-3764; or David A. Lee, Senior Agency Official for Privacy, privacy@fhfa.gov, (202) 649-3803 (not toll free numbers), Federal Housing Finance Agency, 400 7th Street SW., Washington, DC 20219. The telephone number for the Telecommunications Device for the Hearing Impaired is (800) 877-8339.

SUPPLEMENTARY INFORMATION:

I. Comments

Instructions: FHFA seeks public comments on the revised system of records and will take all comments into consideration before issuing the final notice. See 5 U.S.C. 552a(e)(4) and (11). In addition to referencing “Comments/No. 2016-N-04,” please reference the title and number of the system of records your comment addresses: “Emergency Notification System (FHFA-14).”

Posting and Public Availability of Comments: All comments received will be posted without change on the FHFA Web site at http://www.fhfa.gov, and will include any personal information provided, such as your name, address (home and email), telephone number and any other information you provide. In addition, copies of all comments received will be available for examination by the public on business days between the hours of 10 a.m. and 3 p.m., at the Federal Housing Finance Agency, 400 7th Street SW., Washington, DC 20219. To make an appointment to inspect comments, please call the Office of General Counsel at (202) 649-3804.

II. Introduction

This notice informs the public of FHFA's proposal to revise in its entirety an existing system of records. This notice satisfies the Privacy Act requirement that an agency publish a system of records notice in the Federal Register when there is an addition to the agency's system of records. It has been recognized by Congress that application of all requirements of the Privacy Act to certain categories of records may have an undesirable and often unacceptable effect upon agencies in the conduct of necessary public business. Consequently, Congress established general exemptions and specific exemptions that could be used to exempt records from provisions of the Privacy Act. Congress also required that exempting records from provisions of the Privacy Act would require the head of an agency to publish a determination to exempt a record from the Privacy Act as a rule in accordance with the Administrative Procedures Act. The Director of FHFA has determined that records and information in this revised system of records are not exempt from requirements of the Privacy Act.

As required by the Privacy Act, 5 U.S.C. 552a(r), and pursuant to paragraph 4c of Appendix I to OMB Circular No. A-130, “Federal Agency Responsibilities for Maintaining Records About Individuals,” dated February 8, 1996 (61 FR 6428, 6435 (February 20, 1996)), FHFA has submitted a report describing the revised system of records covered by this notice, to the Committee on Oversight and Government Reform of the House of Representatives, the Committee on Homeland Security and Governmental Affairs of the Senate, and the Office of Management and Budget.

The revised system of records described above is set forth in its entirety below.

FHFA-14

SYSTEM NAME:

Emergency Notification System.

SECURITY CLASSIFICATION:

Sensitive but unclassified.

SYSTEM LOCATION:

Federal Housing Finance Agency, 400 7th Street SW., Washington, DC 20219; Everbridge, Inc., Burbank, CA and Denver, CO; and any alternate work site utilized by Federal Housing Finance Agency (FHFA) employees or by individuals assisting such employees.

CATEGORIES OF INDIVIDUALS COVERED BY THE SYSTEM:

Current and former FHFA employees and contractor personnel, and emergency contacts for these individuals.

CATEGORIES OF RECORDS IN THE SYSTEM:

Name and contact information such as addresses (home, mailing and/or business), telephone numbers (personal and/or business), electronic mail addresses (personal and/or business), photographs, and geospatial and/or geolocation data.

AUTHORITY FOR MAINTENANCE OF THE SYSTEM:

5 U.S.C. 552a; 12 U.S.C. 4515; and Executive Orders 12656, 12148, and 10995.

PURPOSE(S):

The purpose of this system of records is to maintain emergency contact information for current FHFA employees and contractor personnel. The system provides for high-speed message delivery that reaches all agency and contractor personnel in response to threat alerts issued by the Department of Homeland Security, weather related emergencies, or other critical situations that disrupt the operations of and accessibility to an FHFA worksite. The system also provides for personnel accountability during an emergency, through personnel sign-in and rapid alert and notification.

ROUTINE USES OF RECORDS MAINTAINED IN THE SYSTEM, INCLUDING CATEGORIES OF USERS AND THE PURPOSE OF SUCH USES:

In addition to those disclosures generally permitted under 5 U.S.C. 552a(b) of the Privacy Act, these records or information contained therein may specifically be disclosed outside FHFA as a routine use pursuant to 5 U.S.C. 552a(b)(3) as follows:

(1) When (a) it is suspected or confirmed that the security or confidentiality of information in the system of records has been compromised; (b) FHFA has determined that as a result of the suspected or confirmed compromise there is a risk of harm to economic or property interests, identity theft or fraud, or harm to the security or integrity of this system or other systems or programs (whether maintained by FHFA or another agency or entity) that rely upon the compromised information; and (c) the disclosure is made to such agencies, entities, and persons who are reasonably necessary to assist in connection with FHFA's efforts to respond to the suspected or confirmed compromise and prevent, minimize, or remedy such harm.

(2) Records in this system may be disclosed to any individual during the course of any inquiry or investigation conducted by FHFA, or in connection with civil or administrative litigation, if FHFA has reason to believe that the individual to whom the record is disclosed may have further information about the matters related therein, and those matters appeared to be relevant at the time to the subject matter of the inquiry.

(3) A record or information in the system may be disclosed to any individual with whom FHFA contracts to reproduce, by typing, photocopy or other means, any record within this system for use by FHFA and its employees in connection with their official duties or to any individual who is utilized by FHFA to perform clerical or stenographic functions relating to the official business of FHFA.

(4) To appropriate federal, state, and local authorities responsible for investigating or prosecuting a violation of, or for enforcing or implementing a statute, rule, regulation, or order issued, when the information indicates a violation or potential violation of law, whether civil, criminal, or regulatory in nature, and whether arising by general statute or particular program statute, or by regulation, rule, or order issued pursuant thereto.

(5) To a court, magistrate, or other administrative body in the course of presenting evidence, including disclosures to counsel or witnesses in the course of civil discovery, litigation, or settlement negotiations or in connection with criminal proceedings, when FHFA is a party to the proceeding or has a significant interest in the proceeding, to the extent that the information is determined to be relevant and necessary.

(6) To a Congressional office from the record of an individual in response to an inquiry from the Congressional office made at the request of that individual.

(7) To contractor personnel, interns, and others performing or working on a contract, service, grant, cooperative agreement, or project for FHFA.

(8) To any Federal government authority for the purpose of coordinating with or reviewing FHFA's continuity of operations plans or emergency contingency plans.

(9) To any Federal, State or Local government authority for the purpose of coordinating a response to threat alerts issued by the Department of Homeland Security, weather related emergencies, or other critical situations that disrupt the operations of and accessibility to an FHFA worksite.

(10) To the National Archives and Records Administration, Office of Government Information Services (OGIS), to the extent necessary to fulfill its responsibilities in 5 U.S.C. 552(b), to review administrative agency policies, procedures and compliance with the Freedom of Information Act (FOIA), and to facilitate OGIS' offering of mediation services to resolve disputes between persons making FOIA requests and administrative agencies.

DISCLOSURE TO CONSUMER REPORTING AGENCIES:

None.

POLICIES AND PRACTICES FOR STORING, RETRIEVING, ACCESSING, RETAINING, AND DISPOSING OF RECORDS IN THE SYSTEM:

STORAGE:

Records are maintained in electronic format, paper form, and magnetic disk or tape. Electronic records are stored in computerized databases. Paper and magnetic disk, or tape records are stored in locked file rooms, locked file cabinets and/or safes.

RETRIEVABILITY:

Records may be retrieved by any of the following: Name, email address, telephone number, or an assigned file number for the purpose of responding to the requestor. Information may additionally be retrieved by other personal identifiers.

SAFEGUARDS:

Records are safeguarded in a secured environment. Buildings where records are stored have security cameras and 24-hour security guard service. Computerized records are safeguarded through use of access codes and other information technology security measures. Paper records are safeguarded by locked file rooms, locked file cabinets, and/or safes. Access to the records is restricted to those who require the records in the performance of official duties related to the purposes for which the system is maintained.

RETENTION AND DISPOSAL:

Records are periodically purged and disposed of for individuals who are no longer employees or contractors of FHFA. Otherwise, records are retained and disposed of in accordance with the appropriate National Archives and Records Administration General Records Schedules and FHFA Retention Schedules.

SYSTEM MANAGER(S) AND ADDRESS:

Office of the Chief Operating Officer, Federal Housing Finance Agency, 400 7th Street SW., Washington, DC 20219.

NOTIFICATION PROCEDURES:

Direct inquiries as to whether this system contains a record pertaining to an individual to the Privacy Act Officer. Inquiries may be mailed to the Privacy Act Officer, Federal Housing Finance Agency, 400 7th Street SW., Washington, DC 20219, or can be submitted electronically at http://www.fhfa.gov/AboutUs/FOIAPrivacv/Pages/Privacv.aspx in accordance with the procedures set forth in 12 CFR part 1204.

RECORD ACCESS PROCEDURES:

Direct requests for access to a record to the Privacy Act Officer. Requests may be mailed to the Privacy Act Officer, Federal Housing Finance Agency, 400 7th Street SW., Washington, DC 20219, or can be submitted electronically at http://www.fhfa.gov/AboutUs/FOIAPrivacv/Pages/Privacv.aspx in accordance with the procedures set forth in 12 CFR part 1204.

CONTESTING RECORD PROCEDURES:

Direct requests to contest or appeal an adverse decision for a record to the Privacy Act Appeals Officer. Requests may be mailed to the Privacy Act Appeals Officer, Federal Housing Finance Agency, 400 7th Street SW., Washington, DC 20219, or can be submitted electronically at http://www.fhfa.gov/AboutUs/FOIAPrivacv/Pages/Privacv.aspx in accordance with the procedures set forth in 12 CFR part 1204.

RECORD SOURCE CATEGORIES:

Information is provided by FHFA employees and FHFA contractor personnel.

EXEMPTIONS CLAIMED FOR THE SYSTEM:

None.

Dated: April 6, 2016.
Melvin L. Watt,
Director, Federal Housing Finance Agency.

[FR Doc. 2016-08652 Filed 4-14-16; 8:45 am]

BILLING CODE 8070-01-P